DEPARTMENT OF THE INTERIOR

Bureau of Indian Affairs

[OMB Control Number 1076-0180; 256A2100DD/AAKP300000/A0A501010.000000]

Agency Information Collection Activities; Submission to the Office of Management and Budget for Review and Approval; Leasing of Osage Reservation Lands for Oil and Gas Mining

AGENCY: Bureau of Indian Affairs, Interior.

ACTION: Notice of information collection; request for comment.

SUMMARY: In accordance with the Paperwork Reduction Act of 1995, we, the Bureau of Indian Affairs (BIA), are proposing to renew an information collection.

DATES: Interested persons are invited to submit comments on or before October 2, 2025.

ADDRESSES: Submit written comments and recommendations for the proposed information collection request (ICR) to the Office of Information and Regulatory Affairs (OIRA) through https://www.reginfo.gov/public/do/PRA/icrPublicCommentRequest?ref_nbr=202507-1076-001 or by visiting https://www.reginfo.gov/public/do/PRAMain and selecting “Currently under Review—Open for Public Comments” and then scrolling down to the “Department of the Interior.”

FOR FURTHER INFORMATION CONTACT: Steven Mullen, Information Collection Clearance Officer, Office of Regulatory Affairs and Collaborative Action—Indian Affairs, U.S. Department of the Interior, 1001 Indian School Road NW, Suite 229, Albuquerque, New Mexico 87104; comments@bia.gov; (202) 924-2650. Individuals in the United States who are deaf, deafblind, hard of hearing, or have a speech disability may dial 711 (TTY, TDD, or TeleBraille) to access telecommunications relay services. You may also view the ICR at https://www.reginfo.gov/public/Forward?SearchTarget=PRA&textfield=1076-0180.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period on this collection of information was published on January 13, 2023 (88 FR 2430). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: In 1906, Congress passed “An Act for the division of the lands and funds of the Osage Indians in Oklahoma Territory, and for other purposes,” providing for allotment of the Osage Nation's lands. See Act of June 28, 1906, Public Law 59-321, 34 Stat. 539, as amended (1906 Act). Section 3 of the 1906 Act severed the surface estate from the subsurface mineral estate (Osage Mineral Estate) and reserved all oil, gas, coal, and other minerals to the Osage Nation. Thus, the United States holds the Osage Mineral Estate in trust for the benefit of the Osage Nation. The 1906 Act authorizes the Osage Nation to lease the Osage Mineral Estate for oil and gas mining, subject to the approval of the Secretary of the Interior and under such rules and regulations as he may prescribe.

The regulations governing such leasing are set forth in 25 CFR part 226. The information collections in 25 CFR part 226 specify what information lessees, operators, and others must provide to the BIA regarding leasing, exploration, development, and production. These information collections are necessary for the BIA to administer leasing of the Osage Mineral Estate, collect and account for royalty revenues, and ensure the protection of resource values.

Title of Collection: “Leasing of Osage Reservation Lands for Oil and Gas Mining” (25 CFR part 226).

OMB Control Number: 1076-0180.

Form Number: Form A, Form B, Form C, Form D, Form E, Form F, Form H, Form G, Form 101, Form 101-A, Form 133, Form 139, Form 157, Form 208, Form 229, Form 300, Form SWD Easement, Form Modification of Oil/Gas Mining Lease, Form List of Corporate Officers, Form Tank Bottom Oil Report, Form Assignment of Liability, Form Lease Status Report, Form Spill Reporting and Remediation, Form APD EA Questionnaire, Form Osage Mineral Reserve Trucking Permit.

Type of Review: Extension of a currently approved collection.

Respondents/Affected Public: Individuals, businesses, and Tribal authorities.

Total Estimated Number of Annual Respondents: 1,001.

Total Estimated Number of Annual Responses: 48,539.

Estimated Completion Time per Response: Varies from 15 minutes to eight hours.

Total Estimated Number of Annual Burden Hours: 22,731.

Respondent's Obligation: Required to obtain or retain a benefit.

Frequency of Collection: Varies from yearly to monthly.

Total Estimated Annual Nonhour Burden Cost: $4,535.

An agency may not conduct or sponsor and a person is not required to respond to a collection of information unless it displays a currently valid OMB control number.

Authority: The authority for this action is the Paperwork Reduction Act of 1995 (44 U.S.C. 3501 et seq).

Scott J. Davis,
Senior Advisor to the Secretary of the Interior, Exercising the delegated authority of the Assistant Secretary—Indian Affairs.

[FR Doc. 2025-16713 Filed 8-29-25; 8:45 am]

BILLING CODE 4337-15-P